DEPARTMENT OF LABOR

Employment and Training Administration

[TA-W-52,381]

Belding Hausman, Inc., Lincolnton, NC; Notice of Termination of Investigation

Pursuant to section 221 of the Trade Act of 1974, an investigation was initiated on July 24, 2003, in response to a petition filed by the company on behalf of workers at Belding Hausman, Inc., Lincolnton, North Carolina.

The petitioner requested that the petition be withdrawn. Consequently, further investigation in this case would serve no purpose, and the investigation has been terminated.

Signed at Washington, DC, this 19th day of August, 2003.
Elliott S. Kushner,
Certifying Officer, Division of Trade Adjustment Assistance.

[FR Doc. 03-22286 Filed 8-29-03; 8:45 am]

BILLING CODE 4510-30-P